DEPARTMENT OF COMMERCE

National Oceanic and Atmospheric Administration

RIN 0648-AX82

Fisheries of the Caribbean, Gulf of Mexico, and South Atlantic; Amendment 2 to the Fishery Management Plan for the Queen Conch Fishery of Puerto Rico and the U.S. Virgin Islands and Amendment 5 to the Reef Fish Fishery Management Plan of Puerto Rico and the U.S. Virgin Islands

AGENCY: National Marine Fisheries Service (NMFS), National Oceanic and Atmospheric Administration (NOAA), Commerce.

ACTION: Notice of intent to prepare a draft environmental impact statement (DEIS); scoping meetings; request for comments.

SUMMARY: The Caribbean Fishery Management Council (Council) and NMFS intend to prepare a DEIS to describe and analyze management alternatives to be included in an amendment to the Fishery Management Plan (FMP) for the Queen Conch Fishery of Puerto Rico and the U.S. Virgin Islands and the FMP for the Reef Fish Fishery of Puerto Rico and the U.S. Virgin Islands. These alternatives will consider measures to implement annual catch limits (ACLs), accountability measures (AMs), permits, and recordkeeping and reporting requirements. The purpose of this notice of intent is to solicit public comments on the scope of issues to be addressed in the DEIS.

DATES: Written comments on the scope of issues to be addressed in the DEIS must be received by the Council by May 18, 2009. A series of scoping meetings will be held in April 2009. See SUPPLEMENTARY INFORMATION below for the specific dates, times, and locations of the scoping meetings.

ADDRESSES: Written comments on the scope of the DEIS and requests for additional information on the amendments should be sent to NMFS, 263 13th Avenue South, Saint Petersburg, Florida 33701; telephone 727-824-5350; fax 727-825-5308; or to the Caribbean Fishery Management Council, 268 Muñoz Rivera Avenue, Suite 1108, San Juan, Puerto Rico 00918; telephone 787-766-5927; fax 787-766-6239. Comments may also be sent by e-mail to Jason.Rueter@noaa.gov or Graciela.Garcia-Moliner@noaa.gov.

FOR FURTHER INFORMATION CONTACT: Jason Rueter, phone 727-824-5305; fax 727-824-5308; email Jason.Rueter@noaa.gov; or Graciela Garcia-Moliner, phone 787-766-5927; fax 787-766-6239; e-mail Graciela.Garcia-Moliner@noaa.gov.

SUPPLEMENTARY INFORMATION: On January 12, 2007, Congress amended the Magnuson-Stevens Fishery Conservation and Management Act (MSA) with passage of the Magnuson-Stevens Fishery Conservation and Management Reauthorization Act (MSRA). While maintaining the requirement that “conservation and management measures shall prevent overfishing while achieving, on a continuing basis, the optimum yield from each fishery for the United States fishing industry,” the MSRA added new requirements to end and prevent overfishing. The new requirement is the use of ACLs, including “measures to ensure accountability.”

Specifically, the MSRA requires that FMPs “establish a mechanism for specifying annual catch limits in the plan (including a multiyear plan), implementing regulations, or annual specifications, at a level such that overfishing does not occur in the fishery, including measures to ensure accountability” (MSRA Section 303(a)(15)). Further, the MSRA requires such measures be implemented by 2010 for fisheries determined by the Secretary of Commerce (Secretary) to be subject to overfishing and by 2011 for all other fisheries.

Currently, there are five species or species groups undergoing overfishing in the U.S. Caribbean. These groups are: Queen Conch (Strombus gigas), Parrotfish, Grouper Unit 1 (Nassau grouper), Grouper Unit 4 (tiger, yellowfin, red, misty, and yellowedge grouper), and Snapper Unit 1 (black, blackfin, silk, and vermilion snapper). These determinations were made during development of the Council's Sustainable Fisheries Act Amendment (SFA), as no stock assessments had yet been able to determine stock status in the U.S. Caribbean. These determinations were based on the informed judgment of those involved in the SFA working group, which included Federal, state, and local managers, scientists, and constituents.

In an effort to set ACLs for these species and species groups, the Council, based on advice from its Scientific and Statistical Committee (SSC), convened a Technical Monitoring and Compliance Team (TMCT), whose task was to identify available data in the U.S. Caribbean and to recommend the appropriate data set to a second group, the Annual Catch Limit Group (ACLG). The ACLG, which was similar to the SFA working group, consisted of Federal, state, and local managers, scientists, and constituents. The ACLG was tasked to analyze the available data and make recommendations for required provisions of the National Standard 1 (NS1) Guidelines to the SSC.

Concurrent with the work of these groups, the Southeast Data, Assessment, and Review (SEDAR) process convened to evaluate all available data in the U.S. Caribbean in support of ACL development. The SEDAR findings, along with those of the ACLG were presented to the SSC for development of overfishing limits (OFL) and allowable biological catch (ABC) limits, as required by the NS1 guidelines (74 FR 3178). The SSC accepted eight scenarios for evaluation of available data developed by the ACLG. Each species or species group was examined via the scenario process and appropriate scientific advice was provided based on the outcome of the scenario. For the species and species groups listed above, the SSC determined no OFL or ABC could be provided. Therefore, the SSC could not refute the catch level recommendations of the ACLG which were derived from average annual landings in recent years (NOTE: use of the appropriate “recent years” was based on a case-by-case basis for each of the species and species groups).

In addition to providing advice on the provisions of the NS1 guidelines, the ACLG and SEDAR groups recommended modifications to stock complexes within the Council's fishery management units. These recommendations were developed based on the empirical landings data, biological characteristics of the species involved, and discussion with fishermen. The SSC agreed with these recommendations and also developed their own recommendation to divide the Parrotfish group into two separate units. Specific reorganization recommendations will be evaluated in the management alternatives section.

The Council will develop a DEIS to describe and analyze management alternatives to implement ACLs, AMs, permits, and recordkeeping and reporting requirements. The amendment will provide updates to the best available scientific information regarding the species and species groups listed, and based on the information, the Councils will determine what actions and alternatives are necessary to meet the statutory requirements for these stocks by 2010. Those alternatives may include, but are not limited to: a “no action” alternative regarding the fishery; alternatives to implement ACLs based on varying approaches; alternatives to establish a permitting system; and alternatives to establish new recordkeeping and reporting requirements.

In accordance with NOAA's Administrative Order NAO 216-6, Section 5.02(c), the Council and NMFS have identified this preliminary range of alternatives as a means to initiate discussion for scoping purposes only. This may not represent the full range of alternatives that eventually will be evaluated by the Council and NMFS.

Once the Council and NMFS complete the DEIS associated with the Amendments to the FMP for the Queen Conch Fishery of Puerto Rico and the U.S. Virgin Islands and the FMP for the Reef Fish Fishery of Puerto Rico and the U.S. Virgin Islands, it must be approved by a majority of the voting members, present and voting, of the Council. After the Council approves this document, the DEIS and associated amendments will be submitted to NMFS for filing with the Environmental Protection Agency (EPA). The EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS) and before adopting final management measures for the amendment. The Council will submit both the final joint amendment and the supporting FEIS to NMFS for review by the Secretary under the MSA.

NMFS will announce, through a notice published in the Federal Register, the availability of the final joint amendment for public review during the Secretarial review period. During Secretarial review, NMFS will also file the FEIS with the EPA for a final 30-day public comment period. This comment period will be concurrent with the Secretarial review period and will end prior to final agency action to approve, disapprove, or partially approve the final joint amendment.

NMFS will announce, through a notice published in the Federal Register, all public comment periods on the final joint amendment, its proposed implementing regulations, and its associated FEIS. NMFS will consider all public comments received during the Secretarial review period, whether they are on the final amendment, the proposed regulations, or the FEIS, prior to final agency action.

Scoping Meeting Dates, Times, and Locations

All scoping meetings are scheduled to be held from 7 p.m. to 10 p.m. The meetings will be physically accessible to people with disabilities. Request for sign language interpretation or other auxiliary aids should be directed to the Council (see ADDRESSES).

April 27-Doubletree by Hilton San Juan, De Diego Avenue, San Juan, Puerto Rico.

April 28-Holiday Inn and Tropical Casino Ponce, 3315 Ponce By Pass, Ponce, Puerto Rico.

April 29-Salon B, Centro de Usos Multiples, Doctor Lopez and Celis Aguilera Street, Fajardo, Puerto Rico.

May 4-Mayaguez Resort and Casino, Road 104, Km. 0.3, Mayaguez, Puerto Rico.

May 6-Community Center, Frenchtown, St. Thomas, U.S. Virgin Islands.

May 7-The Florence Williams Public Library, 1122 King Street, Christiansted, St. Croix, U.S. Virgin Islands.

Authority: 16 U.S.C. 1801 et seq.

Dated: April 10, 2009
Kristen C. Koch,
Acting Director, Office of Sustainable Fisheries, National Marine Fisheries Service.

[FR Doc. E9-8888 Filed 4-16-09; 8:45 am]

BILLING CODE 3510-22-S